DEPARTMENT OF DEFENSE

Department of the Army

Performance Review Board Membership

AGENCY: Department of the Army, DoD.

ACTION: Notice.

SUMMARY: Notice is given of the names of members of a Performance Review Board for the Department of the Army.

DATES: Effective Date: November 15, 2012.

FOR FURTHER INFORMATION CONTACT: Barbara Smith, Civilian Senior Leader Management Office, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Ms. Stephanie A. Barna, Deputy General Counsel (Operations and Personnel), Office of the General Counsel.

2. LTG Thomas P. Bostick, Commanding General, United States Army Corps of Engineers.

3. Mr. Joseph C. Capps, Executive Director/Director of Services, Assistant Chief of Staff for Installation Management, Installation Management Command.

4. Ms. Kathryn A. Condon, Executive Director of the Army National Cemeteries Program, Office of the Secretary of the Army.

5. Ms. Gwendolyn R. DeFilippi, Director, Civilian Senior Leader

Management Office, Office of the Assistant Secretary of the Army (Manpower and Reserve Affairs).

6. MG Genaro J. Dellarocco, Commanding General, United States Army Test and Evaluation Command.

7. Ms. Sue A. Engelhardt, Director of Human Resources, United States Army Corps of Engineers.

8. Mr. Kevin M. Fahey, Program Executive Officer, Combat Support and Combat Service Support, Office of the Assistant Secretary of the Army (Acquisition, Logistics and Technology).

9. Ms. Ellen M. Helmerson, Deputy Chief of Staff, G-1/4 (Personnel and Logistics), United States Army Training and Doctrine Command.

10. Mr. Thomas R. Lamont, Assistant Secretary of the Army (Manpower and Reserve Affairs), Office of the Assistant Secretary of the Army (Manpower and Reserve Affairs).

11. Mr. Mark R. Lewis, Deputy Chief Management Officer, Office of the Under Secretary of the Army.

12. LTG Patricia E. McQuistion, Deputy Commanding General, United States Army Material Command.

13. Ms. Kathleen S. Miller, Assistant Deputy Chief of Staff, G-4, Office of the Deputy Chief of Staff, G-4.

14. Ms. Joyce E. Morrow, Administrative Assistant to the Secretary of the Army, Office of the Secretary of the Army.

15. Mr. John B. Nerger, Executive Deputy to the Commanding General, United States Army Materiel Command.

16. Mr. Levator Norsworthy Jr., Deputy General Counsel(Acquisition)/Senior Deputy General Counsel, Office of the General Counsel.

17. Mr. Gerald B. O'Keefe, Deputy Administrative Assistant to the Secretary of the Army/Executive Director, Resources and Programs Agency, Office of the Administrative Assistant to the Secretary of the Army.

18. LTG William Phillips, Deputy Assistant Secretary of the Army (Acquisition, Logistics and Technology), Office of the Assistant Secretary of the Army (Acquisition, Logistics and Technology).

19. Mr. Wimpy D. Pybus, Deputy Assistant Secretary of the Army for Acquisition, Policy and Logisitics, Office of the Assistant Secretary of the Army (Acquisition, Logistics, and Technology).

20. Ms. Diane Randon, Deputy, Deputy Assistant Chief of Staff for Installation Management, Office of the Assistant Chief of Staff for Installation Management.

21. Mr. J. Randall Robinson, Principal Deputy to the Assistant Secretary of the Army (Installations, Energy and Environment), Office of the Assistant Secretary of the Army (Installations and Environment).

22. Mr. Craig R. Schmauder, Deputy General Counsel (Installation, Environment and Civil Works), Office of the General Counsel.

23. Mr. Karl F. Schneider, Principal Deputy to the Assistant Secretary of the Army (Manpower and Reserve Affairs), Office of Assistant Secretary of the Army, Manpower and Reserve Affairs.

24. Mr. Brian M. Simmons, Executive Technical Director/Deputy to the Commander, United States Army Test and Evaluation Command.

25. Ms. Heidi Shyu, Assistant Secretary of the Army (Acquisition, Logistics and Technology), Office of the Assistant Secretary of the Army (Acquisition, Logistics and Technology).

26. Mr. Lawrence Stubblefield, Deputy Assistant Secretary of the Army (Diversity and Leadership), Office of the Assistant Secretary of the Army (Manpower and Reserve Affairs).

27. MG Todd T. Semonite, Deputy Commanding General, United States Army Corps of Engineers.

28. GEN Dennis L. Via, Commanding General, United States Army Materiel Command.

Brenda S. Bowen,
Army Federal Register Liaison Officer.

[FR Doc. 2012-27122 Filed 11-6-12; 8:45 am]

BILLING CODE 3710-08-P